ENVIRONMENTAL PROTECTION AGENCY

[EPA-HQ-OAR-2013-0246; FRL 9535-1]

Information Collection Request Submitted to OMB for Review and Approval; Comment Request; New Marine Compression Ignition Engines at or Above 30 Liters per Cylinder (Renewal)

AGENCY: Environmental Protection Agency (EPA).

ACTION: Notice.

SUMMARY: The Environmental Protection Agency has submitted an information collection request (ICR), “New Marine Compression Ignition Engines at or Above 30 Liters per Cylinder (Renewal),” EPA ICR Number 2345.03, OMB Number 2060-0641, to the Office of Management and Budget (OMB) for review and approval in accordance with the Paperwork Reduction Act (44 U.S.C. 3501 et seq.). This is a proposed revision of the ICR, which is currently approved through July 31, 2013. Public comments were previously requested via the Federal Register (78 FR 29751) on May 21, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 29, 2013.

ADDRESSES: Submit your comments, referencing Docket ID Number EPA-HQ-OAR-2013-0246, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Nydia Yanira Reyes-Morales, Environmental Protection Agency, 1200 Pennsylvania Avenue NW., Mail Code 6403J, Washington, DC 20460; telephone number: 202-343-9264; fax number: 202-343-2804; email address: reyes-morales.nydia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: Title II of the Clean Air Act (42 U.S.C. 7521 et seq.), charges EPA with issuing certificates of conformity for those engines that comply with applicable emission standards. Such a certificate must be issued before engines may be legally introduced into commerce. Under this ICR, EPA collects information necessary to (1) issue certificates of compliance with emission statements, and (2) verify compliance with various programs and regulatory provisions pertaining to marine compression-ignition engines with a specific engine displacement at or above 30 liters per cylinder (Category 3 engines). To apply for a certificate of conformity, manufacturers are required to submit descriptions of their planned production engines, including detailed descriptions of emission control systems and test data. This information is organized by “engine family” groups expected to have similar emission characteristics. The CAA also mandates that EPA verifies that manufacturers have successfully translated their certified prototypes into mass produced engines and that these engines comply with emission standards throughout their useful lives.

Under the Production Line Testing (PLT) Program, manufacturers of Category 3 engines are required to test each engine at the sea trial of the vessel in which the engine is installed or within the first 300 hours of operation, whichever comes first. This self-audit program allows manufacturers to monitor compliance and minimize the cost of correcting errors through early detection. In addition, owners and operators of marine vessels with Category 3 engines must record certain information and send minimal annual notifications to EPA to show that engine maintenance and adjustments have not caused engines to be noncompliant. From time to time, EPA may test in-use engines to verify compliance with emission standards throughout the marine engine's useful life and may ask for information about the engine family to be tested. The information requested is collected by the Diesel Engine Compliance Center (DECC), Compliance Division (CD), Office of Transportation and Air Quality, Office of Air and Radiation, EPA. Besides DECC and CD, this information could be used by the Office of Enforcement and Compliance Assurance and the Department of Justice for enforcement purposes.

Proprietary information is kept confidential in accordance with the Freedom of Information Act (FOIA), 40 CFR Parts 2 and 1042, and class determinations issued by EPA's Office of General Counsel. Non-confidential business information may be disclosed as requested under FOIA.

Forms: Annual Production Report; PLT CumSum Report; PLT Non-CumSum Report.

Respondents/affected entities: Respondents are manufacturers and owners or operators of marine compression-ignition engines above 30 liters per cylinder and the vessels in which those engines are installed.

Respondent's obligation to respond: Manufacturers must respond to this collection if they wish to sell and/or operate their Category 3 engines in the U.S. (required to obtain or retain a benefit), as prescribed by Section 206(a) of the CAA (42 U.S.C. 7521) and 40 CFR Part 1042. Certification reporting is mandatory under Section 206(a) of CAA (42 U.S.C. 7521) and 40 CFR Part 1042, Subpart C. PLT reporting is mandatory (Section 206(b)(1) of CAA (42 U.S.C. 7521) and 40 CFR Part 1042, Subpart D).

Estimated number of respondents: 201.

Frequency of response: Quarterly, Annually, On Occasion, depending on the type of response.

Total estimated burden: 24,813 hours per year. Burden is defined at 5 CFR 1320.03(b).

Total estimated cost: $1,931,765 (per year), includes an estimated $734,588 annualized capital or maintenance and operational costs.

Changes in the Estimates: There is an increase of 21,741 hours in the total estimated burden for ICR 2345.03 from the burden currently identified in the OMB Inventory of Approved ICR Burdens. This increase is due to better accounting and an adjustment of estimates, not a change in the program. The primary reason for the change is that the hour burden in the previous ICR did not account for an annual records audit that vessel owners have to perform and the annual report they have to submit (first rows of table 5 in the Excel file). The previous ICR only accounted for owner and rebuilder's recordkeeping requirements (see table 6 on 2345.02). There are 187 respondents that are supposed to prepare that report; so even though the burden is only 99 hours per respondent, the total comes out high (at 18,813 hours). Second, regarding the burden to engine manufacturers, this ICR accounts for PLT testing and reporting (5,276 hours—see table 3) and SEAs (table 4), which was not done in the previous ICR. The previous ICR only accounts for certification (table 5 on 2345.02 vs. table 2 in 2345.03).

John Moses,
Director, Collection Strategies Division.

[FR Doc. 2013-18196 Filed 7-29-13; 8:45 am]

BILLING CODE 6560-50-P